FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 002713F.

Name: All-Points Forwarding, Inc.

Address: 3515 NW 114th Avenue, Miami, FL 33178.

Date Revoked: February 29, 2004.

Reason: Failed to maintain a valid bond.

License Number: 003402N.

Name: Customs Services International, Inc.

Address: 7425 NW 48th Street, Miami, FL 33166.

Date Revoked: February 19, 2004.

Reason: Failed to maintain a valid bond.

License Number: 004101F.

Name: Distribution Support Management, Inc.

Address: 75 Northcrest, Newman, GA 30265.

Date Revoked: March 6, 2004.

Reason: Failed to maintain a valid bond.

License Number: 016779F.

Name: EAFF (USA), Inc.

Address: 8840 NW 102nd Street, Medley, FL 33178.

Date Revoked: March 5, 2004.

Reason: Failed to maintain a valid bond.

License Number: 002371F.

Name: Emmett I. Sindik dba Emmett I. Sindik, Customs Broker.

Address: 2311 World Trade Center, New Orleans, LA 70130.

Date Revoked: February 19, 2004.

Reason: Failed to maintain a valid bond.

License Number: 016007N.

Name: Harv Trans, Inc.

Address: 184-45 147th Avenue, Suite 101, Springfield Garden, NY 11413.

Date Revoked: March 9, 2004.

Reason: Failed to maintain a valid bond.

License Number: 001897NF.

Name: International Service Group, Inc. dba ISG Maritime.

Address: P.O. Box 280440, San Francisco, CA 94128-0440.

Date Revoked: February 23, 2004.

Reason: Surrendered license voluntarily.

License Number: 017309N.

Name: Italian Seaways International Inc.

Address: 9253 NW 100th Street, Suite B, Miami, FL 33178.

Date Revoked: March 5, 2004.

Reason: Failed to maintain a valid bond.

License Number: 004634NF.

Name: Next Generation Logistics, Inc.

Address: 1611 Colonial Parkway, Inverness, IL 60067.

Date Revoked: March 4, 2004.

Reason: Surrendered license voluntarily.

License Number: 010572N.

Name: Perfect Trans-Global Inc.

Address: 8050 Florence Avenue, Suite #30, Downey, CA 90240.

Date Revoked: March 6, 2004.

Reason: Surrendered license voluntarily.

License Number: 003187N.

Name: Professional Export Services, Inc. dba Castle Shipping Line.

Address: 4225 Nicols Road, Eagan, MN 55122.

Date Revoked: February 25, 2004.

Reason: Failed to maintain a valid bond.

License Number: 015360N.

Name: Sansu International, Inc.

Address: 2076 20th Lane, Fifth Floor, Brooklyn, NY 11214.

Date Revoked: March 6, 2004.

Reason: Failed to maintain a valid bond.

License Number: 013565NF.

Name: Sino-Zen International Co., Inc. dba Zencon Logistics, Inc.

Address: 15200 Downey Avenue, Paramount, CA 90723.

Date Revoked: February 23, 2004.

Reason: Surrendered license voluntarily.

Sandra L. Kusumoto,
Director, Bureau of Consumer Complaints and Licensing.

[FR Doc. 04-7256 Filed 3-30-04; 8:45 am]

BILLING CODE 6730-01-P